DEPARTMENT OF TRANSPORTATION

Federal Aviation Administration

Notice of Intent To Rule on Application To Impose and Use the Revenue From a Passenger Facility Charge (PFC) at Miami International Airport, Miami, FL

AGENCY: Federal Aviation Administration (FAA), DOT.

ACTION: Notice of intent to rule on application.

SUMMARY: The FAA proposes to rule and invites public comment on the application to impose and use the revenue from a PFC at Miami International Airport under the provisions of the Aviation Safety and Capacity Expansion Act of 1990 (Title IX of the Omnibus Budget Reconciliation Act of 1990) (Pub. L. 101-508) and part 158 of the Federal Aviation Regulations (14 CFR part 158).

DATES: Comments must be received on or before September 30, 2002.

ADDRESSES: Comments on this application may be mailed or delivered in triplicate to the FAA at the following address: Orlando Airports District Office, 5950 Hazeltine National Drive, Suite 400, Orlando, Florida 32822.

In addition, one copy of any comments submitted to the FAA must be mailed or delivered to Ms. Angela Gittens, Executive Director of the Miami-Dade Aviation Department at the following address: Miami-Dade Aviation Department, P.O. Box 59075, Miami, Florida 33159-2075.

Air carriers and foreign air carriers may submit copies of written comments previously provided to the Miami-Dade Aviation Department under section 158.23 of part 158.

FOR FURTHER INFORMATION CONTACT: Miguel A. Martinez, Program Manager, Orlando Airports District Office, 5950 Hazeltine National Drive, Suite 400, Orlando, Florida 32822, (407) 812-6331, extension 23. The application may be reviewed in person at this same location.

SUPPLEMENTARY INFORMATION: The FAA proposes to rule and invites pubic comment on the application to impose and use the revenue from a PFC at Miami International Airport under the provisions of the Aviation Safety and Capacity Expansion Act of 1990 (Title IX of the Omnibus Budget Reconciliation Act of 1990) (Pub. L. 101-508) and part 158 of the Federal Aviation Regulations (14 CFR part 158).

On August 23, 2002, the FAA determined that the application to impose and use the revenue from a PFC submitted by Miami-Dade Aviation Department was substantially complete within the requirements of section 158.25 of part 158. The FAA will approve or disapprove the application, in whole or in part, no later than December 12, 2002.

The following is a brief overview of the application.

PFC Application No.: 02-04-C-00-MIA.

Level of the proposed PFC: $4.50.

Proposed charge effective date: February 1, 2003.

Proposed charge expiration date: October 1, 2037.

Total estimated net PFC revenue: $2,420,400,341.

Brief description of proposed project(s): North Terminal Development, South Terminal Development.

Class or classes of air carriers which the public agency has requested not be required to collect PFCs: Part 135 Air Taxi.

Any person may inspect the application in person at the FAA office listed above under for further information contact.

In addition, any person may, upon request, inspect the application, notice and other documents germane to the application in person at the Miami-Dade Aviation Department.

Issued in Orlando, Florida on August 23, 2002.
Bart Vernace,
Acting Manager, Orlando Airports District Office, Southern Region.

[FR Doc. 02-22272 Filed 8-29-02; 8:45 am]

BILLING CODE 4910-13-M